POSTAL SERVICE

39 CFR Part 111

New Express Mail Price Category—Express Mail Padded Flat Rate Envelope

AGENCY: Postal Service™.

ACTION: Final rule.

SUMMARY: The Postal Service is revising Mailing Standards of the United States Postal Service, Domestic Mail Manual (DMM®), to expand Express Mail® product options to include a new Padded Flat Rate Envelope.

DATES: Effective date: July 10, 2012.

FOR FURTHER INFORMATION CONTACT: Lisa Bobb-Semple (202) 268-3391 or Garry Rodriguez (202) 268-7281.

SUPPLEMENTARY INFORMATION: This final rule describes a new price category under Express Mail, Express Mail Padded Flat Rate Envelope, established by the Governors of the United States Postal Service®. The new price category is available under Docket Number CP2012-39 on the Postal Regulatory Commission's Web site at http://www.prc.gov, and is also located on the Postal Explorer® Web site at http://pe.usps.com.

The new Express Mail Padded Flat Rate Envelope measures 12.5 inches x 9.5 inches and is available to retail, commercial base, and commercial plus customers at the same price currently offered for the Flat Rate Envelope and Legal Flat Rate Envelope. In addition, all other standards that apply to Express Mail apply to the Express Mail Padded Flat Rate Envelope. The USPS®-produced Express Mail Padded Flat Rate Envelope is not available at retail Post Office™ locations but may be ordered online at www.usps.com/shop.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

100 Retail Mail

* * * * *

110 Express Mail

113 Prices and Eligibility

1.0 Express Mail Prices and Fees

* * * * *

1.4 Flat Rate Packaging

* * * * *

1.4.2 Flat Rate Envelopes—Price Eligibility

[Revise the first sentence of 1.4.2 as follows:]

There are three types of USPS-produced Express Mail Flat Rate Envelopes: A regular-size envelope, a padded envelope, and a legal-size envelope.* * *

* * * * *

115 Mail Preparation

1.0 Express Mail Supplies

1.1 Packaging Provided by USPS

[Revise the text of 1.1 as follows:]

Express Mail packaging provided by the USPS must be used only for Express Mail. The USPS-produced Express Mail Padded Flat Rate Envelope and Legal Flat Rate Envelope are not available at retail Post Office locations but may be ordered online at www.usps.com/shop.

* * * * *

We will publish an appropriate amendment to 39 CFR part 111 to reflect these changes.

Stanley F. Mires,
Attorney, Legal Policy & Legislative Advice.

[FR Doc. 2012-16488 Filed 7-9-12; 8:45 am]

BILLING CODE 7710-12-P